DEPARTMENT OF COMMERCE

National Oceanic and Atmospheric Administration

[RTID 0648-XE938]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Committee via webinar to consider actions affecting New England fisheries in the exclusive economic zone (EEZ). Recommendations from this group will be brought to the full Council for formal consideration and action, if appropriate.

DATES: This webinar will be held on Wednesday, June 11, 2025 at 9:30 a.m. Webinar registration URL information: https://nefmc-org.zoom.us/meeting/register/vOuzQ3h7RLaK4QQ4YjwSGQ.

ADDRESSES:

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Groundfish Committee will meet to receive recommendations from the Recreational Advisory Panel, Groundfish Advisory Panel, and Groundfish Plan Development Team. The Committee will receive a report on Framework Adjustment 72/Specifications and Management Measures (to be in initiated) an action that may include status determination criteria, FY2026 specifications for Georges Bank (GB) cod and GB haddock, FY2026-FY2028 specifications for 12 stocks, FY2026-FY2027 U.S./Canada total allowable catches, and measures to address recreational management as part of Phase 1 of Atlantic cod management transition. The Committee will discuss the Redfish Sector Exemption Program Review and receive an update on the development of the review. They will also discuss Amendment 23 Monitoring Review Metrics and receive an update on development of monitoring review metrics and indicators, including refining the list of possible metrics and indicators. The Committee will make recommendations to the Council, as appropriate; and discuss other business, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, (978) 465-0492, at least 5 days prior to the meeting date.

Authority: 16 U.S.C. 1801 et seq.

Dated: May 22, 2025.
Rey Israel Marquez,
Acting Deputy Director, Office of Sustainable Fisheries, National Marine Fisheries Service.

[FR Doc. 2025-09562 Filed 5-27-25; 8:45 am]

BILLING CODE 3510-22-P